DEPARTMENT OF THE INTERIOR

Fish and Wildlife Service

50 CFR Part 17

[Docket No. FWS-R1-ES-2012-0088; 4500030113]

RIN 1018-AZ17

Endangered and Threatened Wildlife and Plants; Removing Five Subspecies of Mazama Pocket Gopher From the Candidate List for Endangered and Threatened Species

AGENCY: Fish and Wildlife Service, Interior.

ACTION: Proposed rule; supplemental information.

SUMMARY: We, the U.S. Fish and Wildlife Service (Service), remove five subspecies of Mazama pocket gopher (Tacoma, Brush Prairie, Shelton, Olympic, and Cathlamet) from the list of candidates for listing as threatened or endangered species under the Endangered Species Act of 1973, as amended. After review of the best available scientific and commercial information, we find that the Tacoma pocket gopher is likely extinct; the Brush Prairie pocket gopher was misidentified as a subspecies of Mazama pocket gopher and was added to the list in error; and listing of the Shelton, Olympic, and Cathlamet pocket gophers is not warranted. However, we invite the submission of any new information concerning the status of, or threats to, the Shelton, Olympic, or Cathlamet pocket gophers or their habitats to our Washington Fish and Wildlife Office (see ADDRESSES section) whenever it becomes available. New information will help us monitor these three subspecies of Mazama pocket gopher and encourage their conservation. If an emergency situation develops for any of these three subspecies or any other species, we will act to provide immediate protection. We will continue to monitor these three subspecies of Mazama pocket gopher as species of concern.

ADDRESSES: This notice and supporting documentation are available on the internet at http://ecos.fws.gov/ecos/indexPublic.do and http://www.regulations.gov (Docket No. FWS-R1-ES-2012-0088). Supporting documentation for this determination is also available for inspection, by appointment, during normal business hours at the U.S. Fish and Wildlife Service, Washington Fish and Wildlife Office, 510 Desmond Drive SE., Lacey, WA 98503; by telephone at 360-753-9440; or by facsimile at 360-534-9331.

FOR FURTHER INFORMATION CONTACT: Ken S. Berg, Manager, Washington Fish and Wildlife Office (see ADDRESSES, above). Persons who use a telecommunications device for the deaf (TDD) may call the Federal Information Relay Service (FIRS) at 800-877-8339.

SUPPLEMENTARY INFORMATION:

Background

The Endangered Species Act of 1973, as amended (16 U.S.C. 1531 et seq.) (Act), requires that we identify species of wildlife and plants that are endangered or threatened, based on the best available scientific and commercial information. As defined in section 3 of the Act, an endangered species is any species which is in danger of extinction throughout all or a significant portion of its range, and a threatened species is any species which is likely to become an endangered species within the foreseeable future throughout all or a significant portion of its range. Through the Federal rulemaking process, we add species that meet these definitions to the List of Endangered and Threatened Wildlife at 50 CFR 17.11 or the List of Endangered and Threatened Plants at 50 CFR 17.12. As part of this program, we maintain a list of species that we regard as candidates for listing. A candidate species is one for which we have on file sufficient information on biological vulnerability and threats to support a proposal to list as endangered or threatened, but for which preparation and publication of a proposal is precluded by higher priority listing actions. We may identify a species as a candidate for listing after we have conducted an evaluation of its status on our own initiative, or after we have made a positive finding on a petition to list a species.

We maintain this list of candidates for a variety of reasons: To notify the public that these species are facing threats to their survival; to provide advance knowledge of potential listings that could affect decisions of environmental planners and developers; to provide information that may stimulate and guide conservation efforts that will remove or reduce threats to these species and possibly make listing unnecessary; to request input from interested parties to help us identify those candidate species that may not require protection under the Act or additional species that may require the Act's protections; and to request necessary information for setting priorities for preparing listing proposals.

Previous Federal Actions for Mazama Pocket Gophers

On December 11, 2012, we published a proposed rule (77 FR 73770) to list four subspecies of Mazama pocket gopher as threatened under the Act and to designate critical habitat for these four subspecies in the State of Washington. In that document, we used the general term “Mazama pocket gopher” to refer collectively only to those subspecies of Thomomys mazama that occur in the State of Washington. The four subspecies we proposed for listing and designation were Roy Prairie (Thomomys mazama glacialis), Olympia (T. m. pugetensis), Tenino (T. m. tumuli), and Yelm (T. m. yelmensis). We also determined at that time that the Tacoma pocket gopher (T. m. tacomensis) is extinct, that the Brush Prairie pocket gopher (T. m. douglasii) is not a subspecies of Thomomys mazama and was added to the candidate list without basis, and that the listing of three other subspecies of Mazama pocket gopher (Olympic [T. m. melanops], Cathlamet [T. m. louiei], and Shelton [T. m. couchi]) is not warranted, and proposed to remove all five entities from our candidate list. For a description of previous Federal actions concerning the Mazama pocket gophers, please refer to the proposed rule (December 11, 2012; 77 FR 73770).

Summary of Comments and Recommendations

We requested written comments from the public on the proposed rule to list four subspecies of Mazama pocket gopher during two comment periods: The first opened December 12, 2012, and closed February 11, 2013, and the second opened April 3, 2013, and closed May 3, 2013 (78 FR 20074; April 3, 2013). During these open comment periods, we received comments from one of the peer reviewers, the State, and one private citizen regarding the five other subspecies of Mazama pocket gopher that we determined to be not warranted for listing under the Act. Below we address those comments that were relevant to these five subspecies. We fully considered all substantive information offered; however, none of the comments that we received changed our initial determination for these five subspecies described in the December 11, 2012, proposed rule (77 FR 73770).

Comments From Peer Reviewers

(1) Comment: A peer reviewer disagreed with our statement that it is not possible to conclusively determine that Brush Prairie pocket gopher is not T. mazama. This peer reviewer then provided a narrative that detailed the history of the taxonomic status of Brush Prairie pocket gopher, concluding that T. talpoides douglasii is clearly distinguishable from T. mazama using standard, scientifically accepted morphological characteristics to separate the species.

Our Response: We appreciate this account of the taxonomic status of Brush Prairie pocket gopher and the clarification in support of the taxonomic separation of the two species in our proposed determination. We have incorporated this information into our final determination for the Brush Prairie pocket gopher, below.

(2) Comment: A peer reviewer was concerned that our determination that the Tacoma pocket gopher is likely extinct may be premature. The peer reviewer stated that the “historical locations” are likely highly biased and certainly few in number, so the lack of appropriate habitat at those sites today does not mean that such habitat, and potential populations, do not occur elsewhere.

Our Response: The presumption of extinction for the Tacoma pocket gopher is based on well-documented habitat loss due to intense urban development, repeated negative surveys of known historical locations, and negative surveys of potentially suitable habitat throughout the subspecies' known range (for details, see our proposed rule dated December 11, 2012; 77 FR 73770, pp. 73773-73774). The State of Washington has likewise concluded that, based on extensive survey efforts over the past few decades and the observed loss and fragmentation of habitat, the Tacoma pocket gopher is likely extinct, the last record of this subspecies having been reported in 1974 (Stinson 2013, pp. 24-25).

Comments From the State

We received comments from the Washington Department of Fish and Wildlife (WDFW) and the Washington Department of Natural Resources (WDNR) related to biological information, threats, and recommendations for the management of habitat for one or more of these five subspecies.

On February 11, 2013, during our first public comment period, we received comments from WDFW on our proposed rule. We discussed these comments in a series of meetings. On April 19, 2013, during our second comment period on the proposed rule, we received additional comments from WDFW indicating appreciation for our responsiveness to their initial concerns and clarifying their perspective as a result of the productive conversations between our organizations. Below are our responses to the initial comment letter.

(3) Comment: WDFW asserted that it is difficult to argue that the Cathlamet pocket gopher still exists given it has not been found for more than 60 years, and recent surveys were conducted in 2012. They asserted that the Service used similar logic to conclude that the Tacoma pocket gopher is likely extirpated.

Our Response: The Service made the determination that the Cathlamet pocket gopher may still be extant based on the historically sporadic survey effort for the subspecies at the single site from which it was identified, and the lack of any survey effort across potentially suitable habitat in the surrounding area or even the extent of the soil type from which the type specimen was originally collected. This determination is in contrast to our presumption of extinction for the Tacoma pocket gopher, which is based on evidence from extensive survey efforts for the subspecies across suitable habitat and historical sites over many years, as well as the observed loss and fragmentation of its habitat to development (see also our response to Peer Review Comment 2, above). Based on our review of the best scientific and commercial data available, we have made different conclusions for the Cathlamet pocket gopher than for the Tacoma pocket gopher because surveys of all potential habitat have never been conducted for the Cathlamet pocket gopher. Land use has remained essentially the same since the type locality was discovered in 1949, which suggests that Cathlamet pocket gophers have not been affected by factors such as extensive residential development or the development of gravel mining operations. Consequently, we are not prepared to declare the species extinct (December 11, 2012; 77 FR 73770, p. 73776). In summary, as discussed in our proposed rule, unlike the four Thurston/Pierce subspecies of Mazama pocket gopher proposed for listing, we have no information to suggest that the Cathlamet pocket gopher is similarly impacted by threats such as development, military training, or control as a pest species. Therefore, we have concluded that the Cathlamet pocket gopher does not meet the definition of threatened or endangered under the Act, and does not warrant listing (December 11, 2012; 77 FR 73770, p. 73790).

(4) Comment: WDNR acknowledged that factors affecting the conservation status of the Olympic pocket gopher are significantly different from those affecting the four Thurston/Pierce subspecies of Mazama pocket gopher proposed for listing, but believed its status is not, however, significantly different. WDNR believed the Olympic pocket gopher is confined to a very small and fragmented range, available habitat continues to be reduced by encroachment of woody species, population numbers are very low, and surviving animals face a theoretical, but likely, threat of predation by coyotes.

Our Response: We appreciate the comments from WDNR, but we did not receive any data in association with their comments to support the claims made. In response to WDNR's comment, the Service contacted Olympic National Park researchers directly and requested any quantifiable data relating to a number of factors, including encroachment of woody species into known occupied habitat, predation, extirpation, or manmade threats. We did not receive any data providing evidence that the Olympic pocket gopher faces population-level threats from factors such as predation by coyotes, thus we were unable to identify any metric that led us to conclude that the Olympic pocket gopher is threatened with extinction now or within the foreseeable future. The Olympic pocket gopher occurs entirely within the boundary of Olympic National Park and is secure from many of the threats facing the other Washington subspecies proposed for listing. Our review of the best scientific and commercial data available indicates that any factors that may be impacting the Olympic pocket gopher are relatively minor and are not resulting in population-level effects. Based on this review and as described in detail in the proposed rule (December 11, 2012; 73 FR 73770), we conclude that the Olympic pocket gopher does not meet the definitions of an endangered or threatened species under the Act.

(5) Comment: Both WDNR and WDFW commented that available habitat for the Olympic pocket gopher appears to continue to be reduced due to invasion by woody vegetation. In addition, WDFW asserted that encroachment of woody vegetation is likely impacting the Shelton and Cathlamet pocket gophers. They stated that the succession to forest that eliminates habitat is much more prevalent in Mason County than in Thurston and Pierce counties, and Scot's broom (Cytisus scoparius) is also a problem.

Our Response: Although we acknowledge that woody vegetation encroachment could be a threat, we have not located nor been provided any data with which to quantify this potential threat to the Olympic, Shelton, or Cathlamet pocket gophers. However, we encourage collection of data on encroachment of woody vegetation to monitor this potential threat to these subspecies.

(6) Comment: WDFW suggested that conversion from forest cover to development is likely to reduce the availability of potentially suitable habitat for the Shelton pocket gopher in Mason County in the future. However, WDFW also pointed out that recent openings created by timber harvest can result in suitable, but currently ephemeral, habitat for Shelton pocket gophers.

Our Response: In making our determination, the Service considers whether threats to the species are such that the species is presently in danger of extinction (endangered) or likely to become so within the foreseeable future (threatened). Although we agree that loss of suitable habitat from conversion of forest land to development has the potential to negatively impact individuals of the Shelton pocket gopher, we have no evidence to suggest that the severity or rate of development in Mason County in the future rises to the level of a population-level threat such that the subspecies as a whole is presently in danger of extinction, or will become threatened with extinction within the foreseeable future (see analysis in our proposed rule, December 11, 2012; 77 FR 73770, p. 73778).

(7) Comment: WDFW stated that the summary statement for Factor E in our threats analysis for all nine subspecies was not well supported. Specifically, they indicate no evidence was presented in the proposal to support the occurrence of “reductions in population size, loss of genetic diversity, reduced gene flow among populations, destruction of population structure, and increased susceptibility to local population extirpation.”

Our Response: It is true that few to no data support changing trends in population numbers for Mazama pocket gophers. What is clear is that suitable habitat for some subspecies of Mazama pocket gopher is increasingly lost to development, fragmented, reduced, or completely eliminated, and that connective habitat corridors allowing for gene flow have been permanently lost through conversion to incompatible land uses. Based on the evidence from the extinction of the Tacoma pocket gopher, the Service infers that when habitat or connective corridors are lost to development, the opportunity for recolonization of previously occupied habitat patches is also lost, leading to a reduction in gene flow between populations and reduced population numbers. However, we have no evidence to suggest that these factors are affecting the Olympic, Shelton, or Cathlamet subspecies of Mazama pocket gopher to a degree that makes them in danger of extinction at the present time, or likely to become endangered within the foreseeable future. We also refer readers to the proposed rule (December 11, 2012; 77 FR 73770, pp. 73786-73789) for citations supporting the concluding statement under factor E.

(8) Comment: WDFW indicates the following statement “this subspecies [Shelton pocket gopher] is highly restricted in its range, the few threats identified occur throughout its range, and the threats are not restricted to any portion of its range” could apply to any and all of the Mazama pocket gopher subspecies in Washington. The only exception is that military training affects some of the Thurston and Pierce subspecies and not others. Thus they were not sure how this could be used as an argument against listing the Shelton pocket gopher.

Our Response: Our determination of “not warranted” was based on whether or not the threats were active, not the similarity to threats affecting other subspecies of pocket gopher. However, we have no evidence to suggest that these factors are affecting the Shelton subspecies of Mazama pocket gopher to a degree that makes them in danger of extinction at the present time, or likely to become endangered within the foreseeable future (see our proposed rule, December 11, 2012; 77 FR 73770, pp. 73789-73790).

Findings

Here we affirm our final determinations on the actions as stated in the proposed rule (December 11, 2012; 77 FR 73770):

Removal of the Tacoma Pocket Gopher From the Candidate List

The first identified specimen of the Tacoma pocket gopher (Thomomys mazama tacomensis) was collected in 1853 by Suckley and Cooper (1860) at Fort Steilacoom, but was first described by Taylor (1919, pp. 169-171). Verts and Carraway (2000, p. 1) recognize the Tacoma pocket gopher as a separate subspecies based on morphological characteristics and distribution. Its range spanned from Point Defiance in Tacoma, south to Steilacoom, and perhaps as far east as Puyallup. In 1920, Tacoma pocket gophers were collected in Parkland and there are subsequent reports of gophers being caught in Puyallup (Scheffer, unpubl. notes, 1957). Original collection sites were long ago converted to residential and suburban development, and one site is now a gravel mining operation. By 1970, Johnson (Johnson 1982, in litt.) believed Tacoma pocket gophers were locally extirpated. Surveys conducted in the early 1990s by Steinberg (1996a), again in 1998 (Stinson 2005, p. 120), and during an extensive survey of historical and potential habitat in the subspecies' known range in 2011 (Tirhi 2012a, in litt.) failed to relocate gophers at any of the previously documented locations. Surveys were conducted during the time of year when gopher activity should have been seen if gophers were present.

The soils series in the area of the historical local populations are Alderwood, Bellingham, Everett, Nisqually, and Spanaway. The entire historical area has been heavily developed since the type locality for this subspecies was found in 1918 (Taylor 1919, p. 169). Based on repeated surveys of previously populated areas where gophers have not been redetected (Steinberg 1995; Tirhi 2012a, in litt.), the lack of documented evidence of the Tacoma pocket gopher over the last three decades, and the lack of appropriate habitat left at historical locations, we conclude the Tacoma pocket gopher is extinct. We, therefore, remove the Tacoma pocket gopher (T. m. tacomensis) from the candidate list.

Removal of the Brush Prairie Pocket Gopher From the Candidate List

In our 2007 Notice of Review of Native Species That Are Candidates for Listing as Endangered or Threatened—Candidate Notice of Review (CNOR) (72 FR 69034; December 6, 2007), we added the Brush Prairie pocket gopher (Thomomys mazama douglasii) to the list of candidate species. The addition was made following a review by the State of Washington, which recognized the Brush Prairie pocket gopher as a subspecies of Thomomys mazama instead of Thomomys talpoides based on current (at the time) genetic data and morphological features. At that time, since all of the subspecies of Mazama pocket gophers in the State of Washington were considered candidates for listing, the Service accepted the classification of the Brush Prairie pocket gopher as a subspecies of the Mazama pocket gopher and added it to the candidate list without additional evaluation.

We have now further investigated the genetic and morphological information originally used to add the subspecies to the candidate list based on the presumption that it was a Mazama pocket gopher (Kenagy 2012, pers. comm.; Paulson 2012, pers. comm.; Welch 2012a, b, in litt.). In our proposed rule (December 11, 2012; 77 FR 73770, p. 73774), we pointed to the lack of evidence to support the conclusion that the Brush Prairie pocket gopher is in fact a subspecies of Thomomys mazama, and additionally noted that Verts and Carraway (2000, p. 1) do not recognize the Brush Prairie pocket gopher as a member of T. mazama. Peer review of our proposed rule provided definitive support of our conclusion that the Brush Prairie pocket gopher is not a subspecies of the Mazama pocket gopher. Therefore, based upon review of the best scientific and commercial data available, we no longer believe the Brush Prairie pocket gopher is a member of the species T. mazama.

The Service erred by failing to conduct a separate five-factor threats analysis when we added the Brush Prairie pocket gopher to the candidate list as Thomomys mazama douglasii, and we now believe it was added in error and without basis. The Brush Prairie pocket gopher was added to the candidate list in 2007 based purely on the presumption that it was a Washington subspecies of Mazama pocket gopher, and because all other Washington subspecies of Mazama pocket gophers were candidates. As such, we believe it was added to the candidate list in error. We, therefore, remove the Brush Prairie pocket gopher (T. m. douglasii) from the candidate list.

Removal of the Olympic Pocket Gopher From the Candidate List

The Olympic pocket gopher occupies isolated alpine meadows in the Olympic National Park in Clallam County. We find that the effects due to small or isolated populations have likely had some negative impacts to the subspecies; however, we have no information to suggest that these impacts rise to the level such that the subspecies is in danger of extinction or likely to become so within the foreseeable future. This species also exhibits low genetic diversity; however, again we have no evidence to suggest that the consequences of this are such that the subspecies is in danger of extinction, or likely to become so within the foreseeable future. This subspecies is highly restricted in its range, the few factors potentially impacting the subspecies occur throughout its range, and these factors are not restricted to any particular portion of its range. However, none of the impacts faced by the Olympic pocket gopher are particularly grave or immediate, such that would lead us to conclude that the subspecies is presently in danger of extinction or likely to become so within the foreseeable future, and we do not have information to suggest that the subspecies is suffering from any recent declines in abundance or distribution (see the proposed rule for the full threats analysis of the Olympic pocket gopher, December 11, 2012; 77 FR 73770).

Occurring entirely within the boundaries of a National Park, the Olympic pocket gopher appears secure from many of the threats facing the other Washington subspecies of Mazama pocket gophers, such as habitat loss to development, encroachment by woody vegetation, or predation by feral cats and dogs. The best available information indicates that the factors impacting the Olympic pocket gopher are relatively minor and are not resulting in population-level effects such that the subspecies is currently in danger of extinction, or likely to become so within the foreseeable future. For these reasons and those discussed in the proposed rule previously (December 11, 2012; 77 FR 73770), we find that the Olympic pocket gopher (Thomomys mazama melanops) does not meet the definition of an endangered or a threatened species and does not warrant listing under the Act. Therefore, we remove the Olympic pocket gopher (T. m. melanops) from the candidate list.

Removal of the Shelton Pocket Gopher From the Candidate List

The Shelton pocket gopher used to range across the open prairies and grasslands of Mason County, and is now also known to inhabit low-elevation meadow-type areas in Mason County. We find that the effects due to small or isolated populations have likely had some negative impacts to the subspecies; however, we have no information to suggest that these impacts rise to the level such that the subspecies is in danger of extinction or likely to become so within the foreseeable future. This subspecies is highly restricted in its range, the few factors potentially impacting the subspecies occur throughout its range, and these factors are not restricted to any particular portion of its range. Although likely impacted by development in the past, we have no information to suggest that ongoing or future development poses a threat to this subspecies, and beneficial management plans are in place for some of the larger populations of the Shelton pocket gopher. The full threats analysis for the Shelton pocket gopher is provided in the proposed rule published December 11, 2012 (77 FR 73770).

The Shelton pocket gopher is not currently affected by many of the threats that have had severe impacts on other Washington subspecies of Mazama pocket gopher, such as habitat loss due to residential or commercial development, encroachment of woody vegetation, or predation by cats and dogs. We have no evidence that the Shelton pocket gopher is experiencing population-level effects from the factors identified, and new local populations of the subspecies have been identified. Based on the best available information, we conclude that the factors impacting the Shelton pocket gopher are relatively minor and that the subspecies is not currently in danger of extinction, or likely to become so within the foreseeable future. For these reasons and those discussed in the proposed rule previously (December 11, 2012; 77 FR 73770), we find that the Shelton pocket gopher (Thomomys mazama couchi) does not meet the definition of an endangered or a threatened species and does not warrant listing under the Act. Therefore, we remove the Shelton pocket gopher (T. m. couchi) from the candidate list.

Removal of the Cathlamet Pocket Gopher From the Candidate List

The Cathlamet pocket gopher occurs in low-elevation meadow-type areas in Wahkiakum County. The subspecies is found in a limited-extent soil type on commercial timber lands. In the Service's review of this subspecies previously (USFWS 2010, pp. 5-6), it was characterized as likely extinct. However, based on our further review of information, we determined that further surveys of the type locality and surrounding area are needed to determine the status of this subspecies, as thorough surveys of all potential habitat were never conducted. In addition, land use within the type locality has remained the same since the subspecies was discovered in 1949 (Gardner 1950), suggesting that threats such as residential development, predation by cats or dogs, or control as a pest species have not impacted the Cathlamet pocket gopher, such that the subspecies may remain extant. The full threats analysis for the Cathlamet pocket gopher is provided in the proposed rule published December 11, 2012 (73 FR 73770).

The range and distribution of the Cathlamet pocket gopher has not been completely surveyed, and its type locality still exists. The available evidence suggests that, due to the nature of the area occupied by the subspecies and the fact that land use has not changed significantly since it was first identified, any factors potentially impacting the Cathlamet pocket gopher are likely relatively minor and are not restricted to any particular portion of its range. For these reasons and those discussed in the proposed rule previously (December 11, 2012; 77 FR 73770), we have determined that the Cathlamet pocket gopher (Thomomys mazama louiei) does not meet the definition of an endangered or a threatened species and does not warrant listing under the Act. Therefore, we remove the Cathlamet pocket gopher (T. m. louiei) from the candidate list.

References Cited

A complete list of references cited in this rulemaking is available on the Internet at http://www.regulations.gov and upon request from the Washington Fish and Wildlife Office (see FOR FURTHER INFORMATION CONTACT).

Authors

The primary authors of this package are the staff members of the Washington Fish and Wildlife Office, Lacey, Washington.

Authority

This notice is published under the authority of the Endangered Species Act of 1973, as amended (16 U.S.C. 1531 et seq.).

Dated: August 21, 2013.
Stephen Guertin,
Acting Director, U.S. Fish and Wildlife Service.

[FR Doc. 2013-21377 Filed 8-30-13; 8:45 am]

BILLING CODE 4310-55-P